RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Application for RRB Survivor Annuities.

(2) Form(s) submitted: AA-17, AA-17b, AA-17cert, AA-18, AA-19, AA-20.

(3) OMB Number: 3220-0030.

(4) Expiration date of current OMB clearance: September 30, 2001.

(5) Type of request: Revision of a currently approved collection.

(6) Respondents: Individuals or households.

(7) Estimated annual number of respondents: 4,137.

(8) Total annual responses: 4,137.

(9) Total amount reporting hours: 1,718.

(10) Collection description: Under Section 2(d) of the Railroad Retirement Act, monthly survivors annuities are payable to surviving widow(ers), parents, unmarried children, and in certain cases, divorced wives (husbands), mothers, (fathers), remarried widow(ers) and grandchildren of deceased railroad employees. The collection obtains information needed by the RRB for determining entitlement to and amount of annuity applied for.

Additional Information or Comments

Copies of the forms and supporting documents can be obtained from Chuck Mierzwa, the agency clearance officer (312-751-3363). Comments regarding the information collection should be addressed to Ronald J. Hodapp., Railroad Retirement Board, 844 North Rush Street, Chicago, Illinois, 60611-2092 and the OMB reviewer, Joe Lackey (202-395-7316), Office of Management and Budget, Room 10203, New Executive Office Building, Washington, DC 20503.

Chuck Mierzwa,
Clearance Officer.

[FR Doc. 01-5072 Filed 3-1-01; 8:45 am]

BILLING CODE 7905-01-M